POSTAL SERVICE

Product Change—First-Class Package Service & Parcel Select Service Negotiated Service Agreement

AGENCY: Postal Service™.

ACTION: Notice.

SUMMARY: The Postal Service gives notice of filing a request with the Postal Regulatory Commission to add a domestic shipping services contract to the list of Negotiated Service Agreements in the Mail Classification Schedule's Competitive Products List.

DATES: Date of required notice: July 6, 2023.

FOR FURTHER INFORMATION CONTACT: Elizabeth A. Reed, 202-268-3179.

SUPPLEMENTARY INFORMATION: The United States Postal Service® hereby gives notice that, pursuant to 39 U.S.C. 3642 and 3632(b)(3), on June 23, 2023, it filed with the Postal Regulatory Commission a USPS Request to Add First-Class Package Service & Parcel Select Service Contract 4 to Competitive Product List. Documents are available at www.prc.gov, Docket Nos. MC2023-176, CP2022-180.

Sarah Sullivan,
Attorney, Ethics & Legal Compliance.

[FR Doc. 2023-14222 Filed 7-5-23; 8:45 am]

BILLING CODE 7710-12-P